DEPARTMENT OF COMMERCE

International Trade Administration

[A-570-977]

High Pressure Steel Cylinders From the People's Republic of China: Rescission of Antidumping Duty Administrative Review; 2014-2015

AGENCY: Enforcement and Compliance, International Trade Administration, Department of Commerce.

SUMMARY: The Department of Commerce (“the Department”) is rescinding the administrative review of the antidumping duty order on high pressure steel cylinders (“steel cylinders”) from the People's Republic of China (“the PRC”) for the period of review June 1, 2014, through May 31, 2015.

DATES: Effective Date: November 25, 2015.

FOR FURTHER INFORMATION CONTACT: Andrew Devine or Susan Pulongbarit, AD/CVD Operations, Office V, Enforcement and Compliance, International Trade Administration, U.S. Department of Commerce, 14th Street and Constitution Avenue NW., Washington DC 20230; telephone: (202) 482-0238 or (202) 482-4031, respectively.

SUPPLEMENTARY INFORMATION:

Background

On June 15, 2015, Norris Cylinder Company (“Petitioner”) submitted a request for administrative review of the antidumping duty order on steel cylinders from the PRC for a single company, Beijing Tianhai Industry Co., Ltd. (“BTIC”).¹ On June 30, BTIC also submitted a request for administrative review of the order.² On August 3, 2015, the Department published the notice of initiation of an administrative review of the order for the period of review June 1, 2014, through May 31, 2015.³ On September 9, 2015, Petitioner and BTIC both withdrew their requests for review.⁴

¹ See Letter to the Secretary from Petitioner, “High Pressure Steel Cylinders from the People's Republic of China Request for Administrative Review and Entry of Appearance,” June 15, 2015.

² See Letter to the Secretary from BTIC, “Request for the Third Administrative Review of the Antidumping Duty Order on High Pressure Steel Cylinders from the People's Republic of China, A-570-977 (POR: 06/01/14-05/31/15),” June 30, 2015.

³ See Initiation of Antidumping and Countervailing Duty Administrative Reviews, 80 FR 45947 (August 3, 2015) (“Initiation Notice”).

⁴ See Letter to the Secretary from Petitioner, “Withdrawal of Request for an Administrative Review of the Antidumping Duty Order on High Pressure Steel Cylinders from the People's Republic of China,” (September 9, 2015); Letter to the Secretary from BTIC, “Withdrawal of Review Request in the Third Administrative Review of the Antidumping Duty Order on High Pressure Steel Cylinders from the People's Republic of China,” (September 9, 2015).

Rescission of Review

Pursuant to 19 CFR 351.213(d)(1), the Department will rescind an administrative review, in whole or in part, if the party or parties that requested a review withdraws the request within 90 days of the publication date of the notice of initiation of the requested review. As noted above, all parties withdrew their requests for administrative reviews within 90 days of the publication date of the notice of initiation. No other parties requested an administrative review of the order. Therefore, in accordance with 19 CFR 351.213(d)(1), we are rescinding this review in its entirety.

Assessment

The Department will instruct U.S. Customs and Border Protection (“CBP”) to assess antidumping duties on all appropriate entries of steel cylinders from the PRC. Antidumping duties shall be assessed at rates equal to the cash deposit of estimated antidumping duties required at the time of entry, or withdrawal from warehouse, for consumption in accordance with 19 CFR 351.212(c)(1)(i). The Department intends to issue appropriate assessment instructions to CBP 15 days after the date of publication of this notice of rescission of administrative review.

Notifications

This notice also serves as a final reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

This notice also serves as a final reminder to parties subject to administrative protective order (“APO”) of their responsibility concerning the return or destruction of proprietary information disclosed under an APO in accordance with 19 CFR 351.305(a)(3). Timely written notification of the return or destruction of APO materials, or conversion to judicial protective order, is hereby requested. Failure to comply with the regulations and terms of an APO is a sanctionable violation.

This notice is issued and published in accordance with sections 751(a)(1) and 777(i)(1) of the Tariff Act of 1930, as amended, and 19 CFR 351.213(d)(4).

Dated: November 16, 2015.
Christian Marsh,
Deputy Assistant Secretary for Antidumping and Countervailing Duty Operations.

[FR Doc. 2015-29944 Filed 11-24-15; 8:45 am]

BILLING CODE 3510-DS-P